INTERNATIONAL TRADE COMMISSION

[Investigation No. TA-421-4]

Ductile Iron Waterworks Fittings From China; Notice of Commission Determination To Conduct a Portion of the Hearing in Camera

AGENCY: International Trade Commission.

ACTION: Closure of a portion of a Commission hearing to the public.

SUMMARY: Upon request of counsel for Chinese Respondents, the Commission has determined to conduct a portion of its hearing in the above-captioned investigation scheduled for November 6, 2003, in camera. See Commission rules 201.13(m) and 201.35(b)(3) (19 CFR 201.13(m) and 201.35(b)(3)). The remainder of the hearing will be open to the public. The Commission has determined that the seven-day advance notice of the change to a meeting was not possible. See Commission rule 201.35(a), (c)(1) (19 CFR 201.35(a), (c)(1)).

FOR FURTHER INFORMATION CONTACT: William Gearhart, Office of General Counsel, U.S. International Trade Commission, 500 E Street, SW., Washington, DC 20436, telephone 202-205-3091, e-mail wgearhart@usitc.gov. Hearing-impaired individuals are advised that information on this matter may be obtained by contacting the Commission's TDD terminal on 202-205-1810.

SUPPLEMENTARY INFORMATION: The Commission believes that counsel has justified the need for a closed session. Counsel seeks a closed session to provide a full discussion of information relating to pricing data, its analysis of domestic industry and Petitioner financial performance, indicators of the extent of competition between domestic product and subject imports, and domestic shipments and domestic producer market share trends. Because such discussions will necessitate disclosure of confidential business information (CBI), they can only occur if a portion of the hearing is held in camera. In making this decision, the Commission nevertheless reaffirms its belief that whenever possible its business should be conducted in public.

The hearing will include the usual public presentations by parties, with questions from the Commission. In addition, the hearing will include in camera sessions for confidential presentations by Chinese Respondents and for questions from the Commission relating to the CBI. For any in camera session the room will be cleared of all persons except for those company officials and their counsel who are authorized to have access to the CBI at issue. See 19 CFR 201.35(b)(1), (2). The time for the party's presentations in the in camera session will be taken from its overall allotment for the hearing. All persons planning to attend the in camera portions of the hearing should be prepared to present proper identification.

Authority: The General Counsel has certified, pursuant to Commission Rule 201.39 (19 CFR 201.39) that, in her opinion, a portion of the Commission's hearing in Inv. No. TA-421-4, Ductile Iron Waterworks Fittings from China, may be closed to the public to prevent the disclosure of CBI.

By order of the Commission.

Issued: November 5, 2003.
Marilyn R. Abbott,
Secretary to the Commission.

[FR Doc. 03-28510 Filed 11-13-03; 8:45 am]

BILLING CODE 7020-02-P